DEPARTMENT OF TRANSPORTATION

Federal Aviation Administration

Notice of Intent To Rule on Request To Release Airport Property at the Gillespie County Airport, Fredericksburg, TX

AGENCY: Federal Aviation Administration (FAA), DOT.

ACTION: Notice of Request to Release Airport Property.

SUMMARY: The FAA proposes to rule and invite public comment on the release of land at the Gillespie County Airport under the provisions of section 125 of the Wendell H. Ford Aviation Investment Reform Act for the 21st Century (AIR 21).

DATES: Comments must be received on or before February 19, 2008.

ADDRESSES: Comments on this application may be mailed or delivered to the FAA at the following address:

Mr. Mike Nicely, Manager, Federal Aviation Administration, Southwest Region, Airports Division, Texas Airports Development Office, ASW-650, Fort Worth, Texas 76193-0650.

In addition, one copy of any comments submitted to the FAA must be mailed or delivered to Mr. Roger Hansen, Airport Manager, at the following address:

101 West Main St., Unit #9, Fredericksburg, Texas 78624.

FOR FURTHER INFORMATION CONTACT: Mr. Steven Cooks, Program Manager, Federal Aviation Administration, Texas Airports Development Office, ASW-650, 2601 Meacham Boulevard, Fort Worth, Texas 76193-0650, Telephone: (817) 222-5608, e-mail: Steven.Cooks@faa.gov, fax: (817) 222-5989.

The request to release property may be reviewed in person at this same location.

SUPPLEMENTARY INFORMATION: The FAA invites public comment on the request to release property at the Gillespie County Airport under the provisions of the AIR 21.

The following is a brief overview of the request:

The City of Fredericksburg owns 7.73 acre tract of land that adjoins airport property. The airport has 5.77 acre tract of land that adjoins a City partk. The County and the City propose to exchange these two tracts as being advantageous to both. The land was acquired by the County of Gillespie in 1946 using public funds derived through a bond issue voted in 1945. The property to be released will be traded to allow both entities future development. Any person may inspect the reqeust in person at the FAA office listed above under FOR FURTHER INFORMATION CONTACT.

In addition, any person may, upon request, inspect the application, notice and other documents relevant to the application in person at the Gillespie County Airport, telephone number (830) 990-5764.

Issued in Fort Worth, Texas on January 9, 2008.
Kelvin L. Solco,
Manager, Airports Division.

[FR Doc. 08-168 Filed 1-17-08; 8:45 am]

BILLING CODE 4910-13-M